DEPARTMENT OF TRANSPORTATION

National Highway Traffic Safety Administration

[U.S. DOT Docket No. NHTSA-2019-0019]

Agency Information Collection Activities; Submission to the Office of Management and Budget for Review and Approval; Request for Comment; Prevalence of Alcohol and Other Drug Use Among Motor Vehicle Crash Victims Admitted to Select Trauma Centers.

AGENCY: National Highway Traffic Safety Administration (NHTSA), Department of Transportation.

ACTION: Notice and request for comments on a new information collection.

SUMMARY: In compliance with the Paperwork Reduction Act of 1995, this notice announces that the Information Collection Request (ICR) abstracted below is being submitted to the Office of Management and Budget (OMB) for review and approval. The ICR describes the nature of the information collection and its expected burden. A Federal Register notice with a 60-day comment period soliciting comments on the information collection was published on April 24, 2019. NHTSA received one comment, from the National Transportation Safety Board (NTSB), that was supportive of the proposed information collection.

DATES: Comments must be received on or before August 15, 2019.

ADDRESSES: Send comments regarding the burden estimate, including suggestions for reducing the burden, to the Office of Management and Budget, Attention: Desk Officer for NHTSA, 725 17th Street NW, Washington, DC 20503.

FOR FURTHER INFORMATION CONTACT: Amy Berning, Contracting Officer's Representative, NHTSA-NPD-130, 1200 New Jersey Avenue SE, W44-237, Washington, DC 20590. Ms. Berning's phone number is 202-366-5587, and her email address is amy.berning@dot.gov.

SUPPLEMENTARY INFORMATION: Before a Federal agency can collect certain information from the public, it must receive approval from the Office of Management and Budget (OMB). In compliance with these requirements, this notice announces that the following information collection request has been forwarded to OMB.

A Federal Register notice with a 60-day comment period soliciting comments on the information collection was published on April 24, 2019.¹ NHTSA received one comment,² from the NTSB, that was supportive of the information collection. NTSB stated that it found the proposed collection of information to be necessary, proper, and useful; the methodology to be valid; the quality and clarity of the proposed collected information to be appropriate; and the collection techniques to be suitable. The comment expressed NTSB's support for NHTSA's research efforts to better understand the prevalence of alcohol and other drug use among crash victims admitted to selected trauma centers and morgues and stated that NHTSA's work on drugs and driving is crucial to NHTSA's proper performance of its agency functions, particularly addressing the safety hazards caused by driver impairment. In further support, NTSB referenced its own safety recommendation to NHTSA to develop and disseminate a common standard of practice for drug toxicology testing.³ NTSB also noted that because the blood specimens will be left over from those already drawn and used for medical care and that demographic data will be deidentified, there will be no evident burden placed on the public or the individuals involved in the research. NHTSA is not making any changes to the information collection based on the comment received.

¹ 84 FR 17233.

² The docket number for the 60-day notice was mistakenly used twice, and the docket also included nine comments that were related to a shoulder belt requirement for side-facing seats on motorcoaches.

³ See the NTSB's November 21, 2012, letter to NHTSA issuing Safety Recommendations H-12-32 and -33. Safety Recommendation H-12-33 is classified “Open—Acceptable Response.”

Title: Prevalence of Alcohol and Other Drug Use Among Motor Vehicle Crash Victims Admitted to Select Trauma Centers.

OMB Control Number: 2127—New.

Affected Public: Seriously- or fatally-injured victims of motor vehicle crashes presenting directly to the selected trauma centers or morgues shortly after a crash.

Form Number: No forms.

Abstract: The National Highway Traffic Safety Administration (NHTSA) seeks to examine the prevalence of legal and illegal drugs in the systems of seriously- and fatally-injured drivers and other crash-involved road users (e.g., passengers, pedestrians, bicyclists, and scooter riders) presenting directly to the selected trauma centers or morgues. The participating trauma centers and medical examiners will provide the study with de-identified blood samples, when available, that were already collected during their routine clinical treatment activities. The study will then conduct independent drug toxicology testing to determine the prevalence of alcohol and other drugs in the systems of the participants. The trauma centers and medical examiners will also provide the study with other de-identified participant classification information such as patient demographics, cause of injury, and injury severity. The trauma centers and medical examiners will provide this already-collected and de-identified information to the study in accordance with all applicable Federal, State, and local regulations governing the sharing of such information and as approved by the study IRB. The trauma centers and medical examiners at the selected study sites universally draw patients' blood for clinical treatment or autopsy purposes. The trauma centers and medical examiners also collect other information such as patient demographics, cause of injury, injury severity, and drugs administered during treatment as part of their normal operating procedures. Therefore, there is no estimated time burden on the participants as the trauma centers and medical examiners will be providing the study with de-identified blood samples already collected, but not used, during their routine clinical procedures, and other de-identified information that was already collected as part of their routine clinical documentation procedures.

Total Estimated Annual Burden Hours: 0.00 hours per year.

Estimated Number of Respondents: The study anticipates collecting de-identified information on approximately 7,500 seriously- or fatally-injured victims of crashes.

Public Comments Invited: You are asked to comment on any aspect of this information collection, including (a) whether the proposed collection of information is necessary for the Department's performance; (b) the accuracy of the estimated burden; (c) ways for the department to enhance the quality, utility and clarity of the information collection; and (d) ways that the burden could be minimized without reducing the quality of the collected information.

Authority: 44 U.S.C. 3506(c)(2)(A).

Issued in Washington, DC.
Jon Krohmer,
Associate Administrator, Acting, Research and Program Development.

[FR Doc. 2019-15033 Filed 7-15-19; 8:45 am]

BILLING CODE 4910-59-P